DEPARTMENT OF ENERGY

Federal Energy Regulatory Commission

[Project No. 2602-007—North Carolina, Dillsboro Hydroelectric Project]

Duke Power Company LLC; Notice of Revised Restricted Service List for a Memorandum of Agreement for Managing Properties Included in or Eligible for Inclusion in the National Register of Historic Places

June 23, 2006.

On May 12, 2006, the Federal Energy Regulatory Commission (Commission) issued notice of a proposed restricted service list for the preparation of a memorandum of agreement for managing properties included in, or eligible for inclusion in, the National Register of Historic Places at the Dillsboro Hydroelectric Project No. 2602. Rule 2010(d)(1) of the Commission's Rules of Practice and Procedure, 18 CFR 2010(d)(1) (2005), provides for the establishment of such a list for a particular phase or issue in a proceeding to eliminate unnecessary expense or improve administrative efficiency. Under Rule 2010(d)(4), persons on the official service list are to be given notice of any proposal to establish a restricted service list and an opportunity to show why they should also be included on the restricted service list or why a restricted service list should not be established.

On May 30, 2006, Jackson County, North Carolina; Macon County, North Carolina; the Town of Franklin, North Carolina; the Friends of Lake Glenville Association, Inc.; and the Dillsboro Inn and TJ Walker (jointly) filed a joint response to the notice, requesting that: (1) They be included in the development of the memorandum of agreement; (2) the Commission not establish a restricted service list; and (3) the Commission establish a protocol to protect cultural resource information during the development of the memorandum of agreement.

Under Rule 2010(d)(2), any restricted service list will contain the names of each person on the official service list, or the person's representative, who, in the judgment of the decisional authority establishing the list, is an active participant with respect to the phase or issue in the proceeding for which the list is established. The joint filers have identified an interest in issues relating to the management of historic properties at the Dillsboro Project. Therefore, they and their representatives will be added to the restrictive service list.

The joint filers assert that they have a direct interest in ensuring that the decision-making process is open for public review. Apart from this, they have not identified a reason why a restrictive service list should not be established. A restricted service list facilitates consultation under section 106 of the National Historic Preservation Act by ensuring that only those parties who are actively participating in this phase of the proceeding are included, thus improving administrative efficiency and eliminating unnecessary expense. However, the establishment of a restricted service list does not restrict public access to information concerning the consultation. All filings and correspondence leading to the development of a memorandum of agreement, as well as the agreement itself, will be placed in the docket for this proceeding and, thus, will be publicly available. In addition, Commission regulations provide procedures for protecting sensitive cultural resource information, such as the location of historic properties, and parties to the restricted service list must follow these procedures. Therefore, there is no need to establish protocols for the protection of this information. See 18 CFR 388.112.

Accordingly, the restricted service list issued on May 12, 2006, for the Dillsboro Project No. 2602 is revised to add the following persons:

Thomas J. Walker, Dillsboro Inn, 146 North River Road, P.O. Box 270, Dillsboro, NC 28725.

Joe Collins, Mayor, Town of Franklin, 188 W Main St, Franklin, NC 28734-2949.

Philip M. Marston, Marston Law, 218 N. Lee Street, Suite 300, Alexandria, VA 22314.

Carol Adams, President, Friends of Lake Glenville, P.O. Box 493, Glenville, NC 28736-0493.

Paul V. Nolan, 5515 17th Street North, Arlington, VA 22205-2722.

Kenneth L. Westmoreland, Manager, Jackson County Government, 401 Grindstaff Cove Rd, Sylva, NC 28779-3250.

Sam Greenwood, Manager, Macon County, County Manager Office, 5 West Main Street, Franklin, NC 28734-3005.

Magalie R. Salas,
Secretary.

[FR Doc. E6-10301 Filed 6-29-06; 8:45 am]

BILLING CODE 6717-01-P